DEPARTMENT OF THE INTERIOR

Fish and Wildlife Service

[FWS-R9-MB-2008-NO156; 91200-1231-9BPP]

Take of Migrant Peregrine Falcons in the United States for Use in Falconry

AGENCY: Fish and Wildlife Service, Interior.

ACTION: Notice of availability.

SUMMARY: This notice is to announce the availability of a Final Environmental Assessment and Management Plan (FEA) for take of migrant peregrine falcons (Falco peregrinus) in the United States for use in falconry.

ADDRESSES: The FEA is available from the Division of Migratory Bird Management, U.S. Fish and Wildlife Service, 4401 North Fairfax Drive, Room 634, Arlington, VA 22203-1610. You can request a copy of the FEA by calling 703-358-1825. The FEA also is available on the Division of Migratory Bird Management Web site at http://www.fws.gov/migratorybirds/.

FOR FURTHER INFORMATION CONTACT: Dr. George Allen, Division of Migratory Bird Management, U.S. Fish and Wildlife Service, at 703-358-1825.

SUPPLEMENTARY INFORMATION: We published a notice of the availability of a Draft Environmental Assessment on November 13, 2007 (72 FR 63921). We stated in the DEA that our management goal is to allow a reasonable harvest of migrant Northern peregrines while not increasing cumulative harvest of the U.S. portion of the Western or the Alaskan segment of the Northern population to a harvest rate (defined as the proportion/percentage of fledged young in a given year that are removed by falconers) greater than 5%, and to have a minimal impact on non-target populations by limiting take of peregrines from them to less than 1%.

In the DEA, we considered six alternatives to address potential take of migrant peregrine falcons in the United States and Alaska. Under the No-Action Alternative, no legal take of migrant peregrine falcons for falconry could occur. We also evaluated alternatives that would allow take in different locations and at different times.

Having reviewed the comments on the DEA, we have revised the assessment, have reanalyzed data on North American peregrine falcon migration, and have considered eight alternatives for the harvest of passage peregrines. We analyzed the likely effects of harvest under the eight alternatives using band recovery data for peregrines that had been banded as nestlings and re-encountered during their first year, and the best available conservative estimates of population size for each management population. From these data sets, we estimated the proportion of each management population's first-year cohort that potentially would be exposed to harvest risk annually under each alternative, and, assuming harvest was in proportion to availability, the likely makeup of harvest.

The preferred alternative in our FEA is to allow take of 116 nestling and post-fledging first-year peregrine falcons from the nesting period through 31 August west of 100 degrees W longitude (including Alaska), and allow a take of 36 first-year migrant peregrine falcons between 20 September and 20 October from anywhere in the U.S. east of 100 degrees W longitude. These harvest limits take into account an annual falconry harvest of up to two migrant peregrine falcons in Canada and up to 25 in Mexico, which we believe is consistent with the current harvest in the two countries.

We expect there to be extensive coordination through the flyway councils on matters of harvest allocation among participating States in the U.S. and Mexico, and Canadian provinces. We propose to work with the flyway councils to establish procedures for collection, housing, and assessment of feather samples, and to establish criteria for determining the sex of harvested peregrines. In addition, we propose to monitor the number, sex, and geographic distribution of peregrines that are harvested to ensure compliance with the frameworks in the proposed action. We will work through the flyway councils, or take regulatory actions, to resolve issues of non-compliance.

Future population surveys may identify changes in population size or productivity values from those reported here. We will review population and harvest data for Canada, the U.S., and Mexico every five years, or at the request of the flyway councils, to reassess the allowable harvest limits. If, during one of these reviews, we determine that F. p. anatum is no longer formally considered threatened or endangered by the Canadian Wildlife Service in Canada, and if the Atlantic and Mississippi flyway councils have determined that peregrines from the Eastern management population no longer warrant special protection, we may consider a more liberal take of migrants.

Dated: November 20, 2008.
Kenneth Stansell,
Director, U.S. Fish and Wildlife Service.

[FR Doc. E8-29011 Filed 12-5-08; 8:45 am]

BILLING CODE 4310-55-P